DEPARTMENT OF HEALTH AND HUMAN SERVICES

Centers for Disease Control and Prevention

[60Day-02-80]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Reducing Injury Risk from Jarring and Jolting on Mobile Farm Equipment: An Epidemiological Survey of Farm Equipment Operators—NEW—The National Institute for Occupational Safety and Health (NIOSH), Centers for Disease Control and Prevention (CDC).

Mobile equipment operators in agriculture, construction, and mining experience a high incidence of back, neck, and other injuries related to the jolting and jarring of equipment compared to other industries. There is a need to establish health and safety baseline data and identify risk factors for such injuries in agriculture. This effort will be carried out under the NIOSH project entitled, “Reducing Injury Risk from Jarring and Jolting on Mobile Equipment in Construction and Agriculture,” funded under the NIOSH National Occupational Research Agenda. The objectives of the project are to: (1) Identify the relationship between mobile equipment type and the frequency and severity of whole-body vibration and jolting/jarring type injuries to the back, neck, or head of operators, and (2) recommend interventions (i.e., engineering controls or other measures) needed to reduce the risk of these injuries in construction, mining, and agricultural environments.

Past NIOSH studies have established the relationship between jolting/jarring and the health of equipment operators. These studies focused on morbidity patterns for operators of heavy equipment, interstate truck drivers, and motor coach drivers. The results of the studies suggested that low-frequency vehicle vibrations (generally shock impacts, jars, or jolts) are associated with an increased incidence of low-back pain, disk and vertebra degeneration of the spine, and several other types of health disorders. In 1994, the state of Washington reported that the three highest rates of back injuries resulting in days away from work were in the transportation, construction, and agriculture industries with 125, 119, and 87 injuries per 10,000 full-time workers, respectively. The Bureau of Labor Statistics (1992-1996) lists truck drivers, as one of the occupations with the highest number of average days away from work per injury (10 days). For all occupations, four out of ten injuries and illnesses resulting in time away from work in 1996 were sprains and strains, most involving the back.

Back injuries are typically expensive. During 1995-1997 in the state of Washington, strains and sprains accounted on average for 54,800 claims per year, costing a total of $216,816,000 per year or $3,945 per claim. During the same time, back injuries accounted on average for 26,905 claims per year, costing a total of $129,426,000 per year or $4,808 per claim. Seated road and off-road vehicle operators are particularly affected by vibration transmitted through the seat to the back and internal organs. From 1996-1997 in the state of Washington, claims of truck drivers averaged $5,035 per claim and claims of grader, dozer and scraper operators averaged $12,057 per claim.

Prior knowledge indicates that the magnitude of the shock is an important factor in causing a back injury but there are other important factors as well, such as the magnitude and frequency of acceleration, the length of work shift, the operator's physical condition, the vehicle's condition, and the type and condition of the vehicle's seat. Using a questionnaire, epidemiological data will be collected from farm equipment operators to assess the frequency of jarring/jolting-related injuries. Questions will be asked of survey participants regarding health and work history with respect to farm equipment operation. The specific data will include risk factors (both on and off the job) and outcome (the prevalence of symptoms in various body parts). The National Education Center for Agricultural Safety (NECAS) will assist in administering the questionnaire to survey participants at the American Farm Bureau Federation Annual Meeting in Tampa, FL, in January 19-20, 2003. Since the conference is well attended, researchers expect 10-12 percent of the meeting attendees to participate in the study. Respondents will complete the survey questionnaire that includes 80 questions. Based on prior experience with a similar questionnaire, the anticipated time for a participant to complete the questionnaire is 20 minutes or less. There will be no cost to respondents.

Respondents | Number of respondents | Number of responses/respondent | Avg. burden/response (in hours) | Total burden (in hours)
Attendees at the American Farm Bureau Federation's Annual Meeting | 600 | 1 | 20/60 | 200
Total |  |  |  | 200

Dated: September 17, 2002.
Nancy E. Cheal,
Acting Associate Director for Policy, Planning and Evaluation, Centers for Disease Control and Prevention.

[FR Doc. 02-24177 Filed 9-23-02; 8:45 am]

BILLING CODE 4163-18-P